NATIONAL COUNCIL ON DISABILITY

Sunshine Act Meetings

Type: Quarterly meeting.

Date and Time: July 25, 2006, 9 a.m.-5 p.m. EST.

Location: Embassy Suites Hotel, 1300 Jefferson Davis Highway, Arlington, VA.

Status: This meeting will be open to the public and free of charge.

Agenda: Reports from the Chairperson and the Executive Director, Team Reports, Unfinished Business, New Business, Announcements, Adjournment.

Type: Town Hall Meeting.

Date and Time: July 26, 2006, 9 a.m.-1 p.m.

Location: National Press Club, Ballroom, 13th Floor, 529 14th Street, NW., Washington, DC.

Status: This meeting will be open to the public and free of charge.

Agenda: A national dialogue on the state of disability, keynote addresses, three consecutive panels discussing the goals of the Americans with Disabilities Act, and audience participation.

Sunshine Act Meeting Contact: Mark S. Quigley, Director of Communications, NCD, 1331 F Street, NW., Suite 850, Washington, DC 20004; 202-272-2004 (voice), 202-272-2074 (TTY), 202-272-2022 (fax).

Agency Mission: NCD is an independent Federal agency making recommendations to the President and Congress to enhance the quality of life for all Americans with disabilities and their families. NCD is composed of 15 members appointed by the President and confirmed by the U.S. Senate.

Accommodations: Those needing reasonable accommodations should notify NCD at least two weeks before these meetings.

Language Translation: In accordance with E.O. 13166, Improving Access to Services for Persons with Limited English Proficiency, those people with disabilities who are limited English proficient and seek translation services for these meetings should notify NCD at least two weeks before these events.

Dated: June 1, 2006.
Ethel D. Briggs,
Executive Director.

[FR Doc. 06-5194 Filed 6-2-06; 2:41 pm]

BILLING CODE 6820-MA-P